Proclamation 8898 of November 1, 2012

National Diabetes Month, 2012

By the President of the United States of America

A Proclamation

Diabetes is a chronic, life-threatening illness that touches Americans of every age, ethnicity, and background. Its complications can be far-reaching: diabetes is the leading cause of kidney failure and new cases of blindness, and people living with the disease are at higher risk of high blood pressure, heart disease, and stroke. Our efforts to promote greater awareness and pioneering research continue to drive our work toward lessening its impact on our country. This month, we rededicate ourselves to that vital task and commend the dedicated professionals who are leading the charge against diabetes.

Today, over 20 million Americans suffer from diabetes, and public health officials estimate that more than 1 million new cases will be diagnosed this year. Of those, some will be Type 1 diabetes, which often develops during childhood. While the risk factors for Type 1 diabetes are not fully understood, insulin injections, regular exercise, and a healthy diet can help manage the disease. In adults, the majority of new cases will be Type 2 diabetes—an illness associated with obesity, physical inactivity, family history of diabetes, and older age. Some racial and ethnic groups are at higher risk of developing Type 2 diabetes. This form of the disease has also become more prevalent among youth. While Type 2 diabetes can be treated through diet and medication, research shows that it can also be prevented or delayed with changes in lifestyle. I encourage all Americans to learn more about diabetes at www.NDEP.NIH.gov, and to talk to their health care provider about what they can do to reduce their risk of developing this serious disease.

As long as diabetes continues to burden our communities, we must press on toward tomorrow's promising breakthroughs in prevention, treatment, and care. My Administration is proud to help advance this cause through the National Diabetes Prevention Program, which was included in the Affordable Care Act. This program joins private and public partners together in encouraging lifestyle changes that can prevent or delay the onset of Type 2 diabetes among those who are at high risk. The Affordable Care Act also ensures that, in many health plans, Americans at higher risk for developing diabetes can receive diabetes screening with no out-of-pocket costs. We have worked to equip Americans with the facts about diabetes through the National Diabetes Education Program, which promotes early diagnosis and effective diabetes management. To address the rise in childhood obesity that puts our young people at greater risk of developing diabetes, heart disease, and cancer during adulthood, First Lady Michelle Obama's Let's Move! initiative has focused on giving children and parents the tools they need to make healthy choices and put their kids on the path to a bright future.

With dedication, persistence, and ingenuity, we can put an end to the diabetes epidemic. In memory of those we have lost, and in solidarity with all who have felt the impact of this disease, let us keep fighting to secure better outcomes for Americans living with diabetes, fuller understanding of how we can prevent new cases, and greater wellness for every man, woman, and child.

NOW, THEREFORE, I, BARACK OBAMA, President of the United States of America, by virtue of the authority vested in me by the Constitution and the laws of the United States, do hereby proclaim November 2012 as National Diabetes Month. I call upon all Americans, school systems, government agencies, nonprofit organizations, health care providers, research institutions, and other interested groups to join in activities that raise diabetes awareness and help prevent, treat, and manage the disease.

IN WITNESS WHEREOF, I have hereunto set my hand this first day of November, in the year of our Lord two thousand twelve, and of the Independence of the United States of America the two hundred and thirty-seventh.

[FR Doc. 2012-27199

Filed 11-5-12; 8:45 am]

Billing code 3295-F3